DEPARTMENT OF THE TREASURY

Customs Service

First Phase of Automated Commercial Environment (ACE): Announcement of a National Customs Automation Program Test for the ACE Account Portal

AGENCY: Customs Service, Treasury.

ACTION: General notice.

SUMMARY: This document announces Customs plan to conduct a National Customs Automation Program test of the first phase of the Automated Commercial Environment. This test will allow importers and authorized parties to access their Customs data via a web-based Account Portal. This test is the first step toward the full electronic processing of commercial importations in the Automated Commercial Environment with a focus on defining and establishing the importer's account structure. Customs plans to initially accept approximately forty importer accounts for participation in this test, and may expand the universe of participants during the test. This notice provides a description of the test, outlines the development and evaluation methodology to be used, sets forth the eligibility requirements for participation, invites public comment on any aspect of the planned test, and opens the application period for participation.

EFFECTIVE DATES: The test will commence no earlier than October 28, 2002. The test will run for approximately two years and may be extended or modified. Comments concerning this notice and all aspects of the announced test may be submitted at any time. Applications may also be submitted at any time; however, in order to be eligible as one of the initial participants, applications must be received by June 1, 2002.

ADDRESSES: Written comments regarding this notice may be submitted to Ms. Hedwig Lock at U.S. Customs Service, 2850 Eisenhower Ave.—First Floor, Alexandria, Virginia 22314; e:mail address: eisenhower@customs.treas.gov; FAX number: (703) 329-5235. Applications to participate will only be accepted via e:mail sent to eisenhower@customs.treas.gov.

FOR FURTHER INFORMATION CONTACT: Ms. Hedwig Lock, U.S. Customs Service, Office of Field Operations, Trade Programs, Commercial Compliance, Account Management; Tel. (703) 317-3657; e:mail address: eisenhower@customs.treas.gov.

SUPPLEMENTARY INFORMATION:

Background

The Customs Modernization Program has been created to improve efficiency, increase effectiveness, and reduce costs for Customs and all of its communities of interest. The ability to meet these objectives depends heavily on successfully modernizing Customs business functions and the information technology that supports those functions.

The initial thrust of the Customs Modernization Program focuses on Trade Compliance and the development of the Automated Commercial Environment (ACE) through the National Customs Automation Program (NCAP). ACE is not only a replacement system for the Automated Commercial System (ACS); it is an effort to streamline business processes to facilitate the growth in trade and foster participation in global commerce, while ensuring compliance with U.S. laws and regulations.

The ACE development strategy consists of partitioning ACE into four major increments. Each increment, while individually achieving critical business needs, also lays the foundation for subsequent increments. This test will be part of the first phase of ACE.

This test is the first step towards changing the way that the world interacts with U.S. Customs. This test will allow account holders to view integrated data for their account information from multiple system sources. It will enable Customs and account holders to interact via newly created account portals. This test accommodates both Customs and the trade. The Account Portal has the ability to access, manage and disseminate information in an efficient and secure manner. As an example, when a trade participant enters ACE, the Account Portal will present data specific to that participant's account transactions.

Participants in this test will eventually have the opportunity to use the account management functions such as account access to their profile and transactional data via the web portal. Eventually the account owner will also have the option to delegate portal access. In the initial phase of the test program participants will only have access to static data and basic account profile information necessary to establish an account. In the later stages of the test participants will have access to more extensive operational transaction data through the web portal.

This test will be delivered in a phased approach, with primary deployment scheduled for no earlier than October 28, 2002. The timeline for ACE is subject to change based on funding and technical requirements. Future phases of the Automated Commercial Environment (ACE) will be developed and deployed throughout the ACE development period, for use by the trade and Customs personnel selected to test the Account Portal.

Customs plans to select approximately forty importer accounts from the list of qualified applicants for the initial deployment of this test. A primary benefit for the initial participants will be an early opportunity to provide direct input into the initial design of the Account Portal. Additional participants may be selected throughout the duration of this test.

Eligibility Criteria

To be eligible for participation in this test, an importer must:

1. Participate in the Customs Trade Partnership Against Terrorism (C-TPAT). C-TPAT is a joint government-business initiative to build cooperative relationships that strengthen overall supply chain and border security. For further information, please refer to the Customs website at http://www.customs.gov/enforcem; and

2. Have the ability to connect to the Internet.

Customs expects to select a broad range of importers representing various industries. Applications will be considered from all volunteers; however, priority consideration for selection of the initial participants will be given to:

1. Importers that use carriers that participate in the Customs Industry Partnership Programs (IPP). IPP consists of several partnership programs that aim to engage the trade community in a cooperative relationship with Customs in the war on drugs and terrorism, such as the Carrier Initiative Program and the Business Anti-Smuggling Coalition. For further information on Industry Partnership Programs, please refer to the Customs website at http://www.customs.gov/enforcem; and

2. Importers who have participated in the Account Management Program for at least one year and who are managed by a full-time Account Manager.

Application Process

Each application for participation in this test must include the following information:

1. Importer name,

2. Unique importer number (e.g., SSN, EIN, Customs Assigned Importer #, DUNS #),

3. Statement certifying participation in C-TPAT, and

4. Statement certifying the capability to connect to the Internet.

In order to be eligible as one of the initial participants, completed applications must be received by June 1, 2002. Applicants will be notified by Customs of the status of their application, whether it is held pending further expansion or accepted for initial participation. An applicant who does not meet the eligibility criteria or who provides an incomplete application will be notified and given the opportunity to resubmit their application.

Upon selection into the test, Customs may request additional information for the account profile. Participants incur a continuing obligation to provide Customs with any updates or changes to the information they submit. All data submitted and entered into the Account Portal is subject to the Trade Secrets Act (18 U.S.C. 1905) and is considered confidential and subject to the appropriate levels of governmental control and protection. While the test is scheduled to begin October 28, 2002, participation in this test may be delayed due to funding and technological constraints. Future phases of ACE may also be tested; however, the eligibility criteria may differ from the criteria listed in this notice. Acceptance into this test does not guarantee eligibility for, or acceptance into future technical tests.

Each participant will designate one person as the account owner for the company's portal account information. The account owner will be responsible for safeguarding the company's portal account information, controlling all disclosures of that information to authorized persons, authorizing user access to the Account Portal and ensuring that access to the company's portal account information by authorized persons is strictly controlled.

Authorization for the Test

Pursuant to Customs Modernization provisions in the North American Free Trade Agreement Implementation Act, Pub. L. 103-182, 107 Stat. 2057, 2170 (December 8, 1993), Customs amended its regulations (19 CFR chapter I), in part, to enable the Commissioner of Customs to conduct limited test programs or procedures designed to evaluate planned components of the National Customs Automation Program. Section 101.9(b) of the Customs Regulations (19 CFR 101.9(b)) provides for the testing of NCAP programs or procedures. See T.D. 95-21. This test is established pursuant to that regulatory provision.

Misconduct Under the Test

If a test participant fails to follow the terms and conditions of this notice, fails to exercise reasonable care in the execution of participant obligations, fails to abide by applicable laws and regulations, misuses the Account Portal, engages in any unauthorized disclosure or access to the Account Portal, or engages in any activity which interferes with the successful evaluation of the new technology, the participant may be subject to civil and criminal penalties, administrative sanctions, and/or suspension from this test. Any decision proposing suspension of a participant may be appealed in writing to Ms. Hedwig Lock within 15 days of the decision date. Such proposed suspension will apprise the participant of the facts or conduct warranting suspension. Should the participant appeal the notice of proposed suspension, the participant should address the facts or conduct charges contained in the notice and state how compliance will be achieved. However, in the case of willfulness or where public health interests or safety are concerned, the suspension may be effective immediately.

Test Evaluation Criteria

To ensure adequate feedback, participants are required to participate in an evaluation of this test. Customs also invites all interested parties to comment on the design, conduct and implementation of the test at any time. The final results will be published in the Federal Register and the Customs Bulletin as required by § 101.9(b) of the Customs Regulations.

The following evaluation methods and criteria have been suggested:

1. Baseline measurements to be established through data analysis.

2. Questionnaires from both trade participants and Customs addressing such issues as:

• Workload impact (workload shifts/volume, cycle times, etc.);

• Cost savings (staff, interest, reduction in mailing costs, etc.);

• Policy and procedure accommodation;

• Trade compliance impact;

• Problem resolution;

• System efficiency;

• Operational efficiency;

• Other issues identified by the participant group.

Dated: April 26, 2002.
Bonni G. Tischler,
Assistant Commissioner, Office of Field Operations.

[FR Doc. 02-10777 Filed 4-30-02; 8:45 am]

BILLING CODE 4820-02-P